DEPARTMENT OF VETERANS AFFAIRS

Voluntary Service National Advisory Committee, Notice of Meetings

The Department of Veterans Affairs (VA) gives notice under the Federal Advisory Committee Act, 5 U.S.C. App.2, that the Executive Committee of the VA Voluntary Service (VAVS) National Advisory Committee (NAC) will meet virtually on September 22, 2020. The meeting will begin at 1:00 p.m. Eastern Standard Time (EST) and end at 3:00 p.m. EST. You may call into the meeting by dialing 1-404-397-1596 and enter Access Code 199 856 5542#. The meeting is open to the public.

The Committee, comprised of 53 major Veteran, civic, and service organizations, advises the Secretary, through the Under Secretary for Health, on the coordination and promotion of volunteer activities and strategic partnerships within VA health care facilities, in the community, and on matters related to volunteerism and charitable giving. The Executive Committee consists of 20 representatives from the NAC member organizations.

Agenda topics will include: NAC goals and objectives; review of minutes from the October 17, 2019, Executive Committee meeting; VAVS update on the Voluntary Service program's activities; Veterans Health Administration update, subcommittee reports; review of standard operating procedures; review of organization data; 2021 NAC annual meeting plans; and any new business.

No time will be allocated at this meeting for receiving oral presentations from the public. However, the public may submit written statements for the Committee's review to Mrs. Sabrina C. Clark, Designated Federal Officer, Voluntary Service Office (10B2A), Department of Veterans Affairs, 810 Vermont Avenue NW, Washington, DC 20420, or email at Sabrina.Clark@VA.gov. Any member of the public wishing to attend the meeting or seeking additional information should contact Mrs. Clark at 202-461-7300.

Dated: August 27, 2020.
Jelessa M. Burney,
Federal Advisory Committee Management Officer.

[FR Doc. 2020-19272 Filed 8-31-20; 8:45 am]

BILLING CODE 8320-01-P